DEPARTMENT OF HEALTH AND HUMAN SERVICES

Health Resources and Services Administration

Agency Information Collection Activities; Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, e-mail paperwork@hrsa.gov or call the HRSA Reports Clearance Officer at (301) 443-1129.

Comments are invited on: (a) The proposed collection of information for the proper performance of the functions of the agency; (b) the accuracy of the agency's estimate of the burden of the proposed collection of information; (c) ways to enhance the quality, utility, and clarity of the information to be collected; and (d) ways to minimize the burden of the collection of information on respondents, including through the use of automated collection techniques or other forms of information technology.

Proposed Project: National Health Service Corps Site Application (OMB No. 0915-0230)—Revision

The National Health Service Corps (NHSC) of the Bureau of Clinician Recruitment and Service (BCRS), HRSA, is committed to improving the health of the Nation's underserved by uniting communities in need with caring health professionals, and by supporting their efforts to build better systems of care. The NHSC Site Application, which renames and revises the previous Recruitment and Retention Assistance Application, requests information on the clinical service site, sponsoring agency, recruitment contact, staffing levels, service users, charges for services, employment policies, and fiscal management capabilities. Assistance in completing the application may be obtained through the appropriate State Primary Care Offices, State Primary Care Associations and the NHSC. The information on the application is used for determining the eligibility of sites for assignment of NHSC-obligated health professionals and to verify the need for NHSC clinicians. Approval as an NHSC service site is good for three years; sites wishing to remain eligible for assignment of NHSC providers must submit a new Site Application every three years.

The annual estimate of burden is as follows:

Instrument | Number of respondents | Responses per respondent | Total responses | Hours per response | Total burden hours
NHSC Site Application | 3,000 | 1 | 3,000 | 0.5 | 1,500

E-mail comments to paperwork@hrsa.gov or mail to the HRSA Reports Clearance Officer, Room 10-33, Parklawn Building, 5600 Fishers Lane, Rockville, MD 20857. Written comments should be received within 60 days of this notice.

Dated: June 6, 2011.
Reva Harris,
Acting Director, Division of Policy and Information Coordination.

[FR Doc. 2011-14341 Filed 6-8-11; 8:45 am]

BILLING CODE 4165-15-P